SMALL BUSINESS ADMINISTRATION

[Disaster Declaration #17354 and #17355; NEBRASKA Disaster Number NE-00094]

Presidential Declaration of a Major Disaster for Public Assistance Only for the State of Nebraska

AGENCY: U.S. Small Business Administration.

ACTION: Notice.

SUMMARY: This is a Notice of the Presidential declaration of a major disaster for Public Assistance Only for the State of Nebraska (FEMA-4641-DR), dated 02/23/2022.

Incident: Severe Storms, Straight-Line Winds, and Tornadoes.

Incident Period: 12/15/2021.

DATES: Issued on 02/23/2022.

Physical Loan Application Deadline Date: 04/25/2022.

Economic Injury (EIDL) Loan Application Deadline Date: 11/23/2022.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the President's major disaster declaration on 02/23/2022, Private Non-Profit organizations that provide essential services of a governmental nature may file disaster loan applications at the address listed above or other locally announced locations.

The following areas have been determined to be adversely affected by the disaster:

Primary Counties: Adams, Buffalo, Burt, Cass, Cuming, Fillmore, Gage, Hamilton, Harlan, Jefferson, Johnson, Kearney, Nemaha, Nuckolls, Otoe, Pawnee, Platte, Polk, Richardson, Saline, Sarpy, Saunders, Thayer, Washington, Webster.

The Interest Rates are:

| Percent
For Physical Damage:
Non-Profit Organizations with Credit Available Elsewhere | 1.875
Non-Profit Organizations without Credit Available Elsewhere | 1.875
For Economic Injury:
Non-Profit Organizations without Credit Available Elsewhere | 1.875

The number assigned to this disaster for physical damage is 17354 B and for economic injury is 17355 0.

(Catalog of Federal Domestic Assistance Number 59008)

Barbara Carson,
Acting Associate Administrator for Disaster Assistance.

[FR Doc. 2022-04356 Filed 3-1-22; 8:45 am]

BILLING CODE 8026-03-P